SURFACE TRANSPORTATION BOARD

[Docket No. FD 36739]

Massachusetts Coastal Railroad, LLC—Acquisition and Operation Exemption—Bay Colony Railroad Corporation

Massachusetts Coastal Railroad, LLC (Mass Coastal), a Class III rail carrier, has filed a verified notice of exemption under 49 CFR 1150.41 to acquire from Bay Colony Railroad Corporation (Bay Colony) and to operate approximately 5.92 miles of rail line between milepost QND 0.08 and milepost QND 6.00 in Bristol County, Mass. (the Line). According to the verified notice, Bay Colony is the current operator of the Line.

The verified notice states that Mass Coastal has entered into an agreement with Bay Colony to acquire the assets comprising the Line and will assume, via assignment, the lease for the underlying real property, which is owned by Massachusetts Department of Transportation (MassDOT).¹ Mass Coastal currently has authority to operate the lines connected to both ends of the Line.

¹ Mass Coastal states that the Bay Colony lease was previously with the prior owner of the real property, CSX Transportation, Inc. See Bay Colony R.R.—Acquis. & Operation Exemption—CSX Transp., as Operator for N.Y. Cent. Lines, LLC, FD 34446 (STB served Jan. 16, 2004). Mass Coastal also states that the real property was acquired, and the lease assumed, by MassDOT in 2009. See Mass. Dept. of Transp.—Acquis. Exemption—Certain Assets of CSX Transp., FD 35312 (STB served Dec. 10, 2009).

Mass Coastal certifies that the proposed acquisition of the Line does not involve any interchange commitments. Mass Coastal further certifies that its projected revenues as a result of this transaction will not exceed those that would qualify it as a Class III carrier and that its projected annual revenue will not exceed $5 million.

The transaction may be consummated on or after December 16, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than December 8, 2023.

All pleadings, referring to Docket No. FD 36739, must be filed with the Surface Transportation Board either via e-filing on the Board's website or in writing addressed to 395 E Street SW, Washington, DC 20423-0001. In addition, one copy of each pleading must be served on Mass Coastal's representative, Eric M. Hocky, Clark Hill PLC, Two Commerce Square, 2001 Market St., Suite 2620, Philadelphia, PA 19103.

According to Mass Coastal, this action is categorically excluded from environmental review under 49 CFR 1105.6(c) and from historic reporting requirements under 49 CFR 1105.8(b).

Board decisions and notices are available at www.stb.gov.

Decided: November 28, 2023.
By the Board, Scott M. Zimmerman, Acting Director, Office of Proceedings.
Stefan Rice,
Clearance Clerk.

[FR Doc. 2023-26453 Filed 11-30-23; 8:45 am]

BILLING CODE 4915-01-P